DEPARTMENT OF ENERGY

Western Area Power Administration

Post-2005 Resource Pool, Pick-Sloan Missouri Basin Program—Eastern Division

AGENCY: Western Area Power Administration, DOE.

ACTION: Notice of proposed allocation.

SUMMARY: The Western Area Power Administration (Western), Upper Great Plains Customer Service Region, a Federal power marketing agency of the Department of Energy, announces the Post-2005 Resource Pool Proposed Allocation of Power. The Energy Planning and Management Program (Program) provides for project-specific resource pools and power allocations from these pools to new preference customers and/or other appropriate purposes as determined by Western. Western, under the Program, is proposing allocations from a Federal power resource pool of the long-term marketable resource of the Pick-Sloan Missouri Basin Program—Eastern Division (P-SMBP—ED) that will become available January 1, 2006. Western will prepare and publish the Final Allocation of Power in the Federal Register after all public comments have been considered.

DATES: Entities interested in commenting on the proposed allocations of power must submit written comments to Western's Upper Great Plains Customer Service Regional Office at the address below. Western must receive written and/or electronic comments by 4 p.m., MDT, on June 28, 2004. Entities are encouraged to use certified mail, e-mail, or fax for delivery of comments. Western will accept comments received via regular mail through the United States Postal Service if postmarked at least 3 days before June 28, 2004, and received no later than July 2, 2004. Western reserves the right to not consider any comments that are not received by the prescribed dates and times. Western will hold public information forums and public comment forums (immediately following the information forums) on the proposed allocation of power.

The public information and comment forum dates and times are:

1. April 27, 2004, 2 p.m., Billings, Montana.

2. April 28, 2004, 1 p.m., Sioux Falls, South Dakota.

ADDRESSES: Send written comments regarding these proposed allocations of Western power to Robert J. Harris, Regional Manager, Upper Great Plains Customer Service Region, Western Area Power Administration, 2900 4th Avenue North, Billings, MT, 59107-1266. Comments on the proposed allocations may also be faxed to (406) 247-7408 or e-mailed to Post2005UGP@wapa.gov.

The public information and comment forum locations are:

1. Billings—Billings Hotel and Convention Center, 1223 Mullowney Lane, Billings, Montana.

2. Sioux Falls—Best Western Ramkota Hotel, 3200 West Maple Street, Sioux Falls, South Dakota.

FOR FURTHER INFORMATION CONTACT: Jon R. Horst, Public Utilities Specialist, Upper Great Plains Customer Service Region, Western Area Power Administration, 2900 4th Avenue North, Billings, MT 59107-1266, telephone (406) 247-7444, e-mail horst@wapa.gov.

All documents developed or retained by Western in developing this Post-2005 Resource Pool will be available for inspection and copying at the Upper Great Plains Customer Service Region in Billings, Montana. Public comments will be available for viewing at http://www.wapa.gov/ugp/contracts/post2005/comments.htm after the close of the comment period.

SUPPLEMENTARY INFORMATION: On March 4, 2003, Western published the proposed procedures and call for applications in the Federal Register. Western held public information and comment forums on April 8-10, 2003, to accept oral and written comments on the proposed procedures and call for applications. Applications for power were accepted at Western's Upper Great Plains Customer Service Region until close of business on June 2, 2003. On December 2, 2003, Western published the final procedures in the Federal Register. The proposed allocations of power published here are the result of those applications received during the call for applications. Applications received were subjected to the Final Post-2005 Resource Pool Allocation Procedures.

I. Proposed Allocation of Power

Western received 14 applications for the Post-2005 Resource Pool. Review of the applications indicated that 11 of the 14 applicants did not qualify under the Final Post-2005 Resource Pool Allocation Procedures. The proposed allocations of power for new customers were calculated using the Final Post-2005 Resource Pool Allocation Procedures. The proposed summer allocations are 24.84413 percent of total summer load; the proposed winter allocations are 35.98853 percent of total winter load as defined in the Post-1985 Marketing Plan criteria, under the Final Post-2005 Resource Pool Allocation Procedures. The proposed allocations of power for new eligible customers and the loads these allocations are based upon are as follows:

New customers | 2002 Summer season load kilowatts | 2002 Winter season load kilowatts | Proposed post-2005 power allocation: Summer kilowatts | Proposed post-2005 power allocation: Winter kilowatts
City of Auburn, IA | 515 | 409 | 128 | 147
City of Pocahontas, IA | 4,236 | 2,980 | 1,052 | 1,072
Montana State University—Bozeman, MT | 8,506 | 8,536 | 2,113 | 3,072

The proposed allocations of power for new customers listed in the table above are based on the P-SMBP—ED marketable resource available at this time. If the P-SMBP—ED marketable resource is adjusted in the future, the proposed allocations of power may be adjusted accordingly. Entities interested in commenting on the proposed allocations of power must submit comments to Western's Upper Great Plains Customer Service Regional Office as described earlier. Western will respond to the comments received on the proposed allocations of power and publish its final allocations after the end of the public comment period. Western will then begin negotiating new customer contracts.

II. Review Under the Regulatory Flexibility Act

The Regulatory Flexibility Act of 1980, 5 U.S.C. 601, et seq., requires Federal agencies to perform a regulatory flexibility analysis if a final rule is likely to have a significant economic impact on a substantial number of small entities and there is a legal requirement to issue a general notice of proposed rulemaking. Western has determined this action does not require a regulatory flexibility analysis since it is a rulemaking of particular applicability relating to rates or services.

III. Small Business Regulatory Enforcement Fairness Act

Western determined this rule is exempt from congressional notification requirements under 5 U.S.C. 801 because the action is a rulemaking to approve or prescribe rates or services and involves matters of agency procedure.

IV. Determination Under Executive Order 12866

Western has an exemption from centralized regulatory review under Executive Order 12866; so this notice requires no clearance by the Office of Management and Budget.

Dated: March 17, 2004.
Michael S. Hacskaylo,
Administrator.

[FR Doc. 04-6915 Filed 3-26-04; 8:45 am]

BILLING CODE 6450-01-P